DEPARTMENT OF LABOR

Mine Safety and Health Administration

Petitions for Modification

AGENCY: Mine Safety and Health Administration (MSHA), Labor.

ACTION: Notice of petitions for modification of existing mandatory safety standards.

SUMMARY: Section 101(c) of the Federal Mine Safety and Health Act of 1977 and 30 CFR Part 44 govern the application, processing, and disposition of petitions for modification. This notice is a summary of petitions for modification filed by the parties listed below to modify the application of existing mandatory safety standards published in Title 30 of the Code of Federal Regulations.

DATES: Comments on the petitions must be postmarked and received by the Office of Standards, Regulations, and Variances on or before January 4, 2007.

ADDRESSES: You may submit your comments, identified by “docket number” on the subject line, by any of the following methods:

1. E-Mail: Standards-Petitions@dol.gov.

2. Telefax: 1-202-693-9441.

3. Hand-Delivery or Regular Mail: Submit comments to the Mine Safety and Health Administration (MSHA), Office of Standards, Regulations, and Variances, 1100 Wilson Boulevard, Room 2349, Arlington, Virginia 22209, Attention: Patricia W. Silvey, Director, Office of Standards, Regulations, and Variances.

We will consider only comments postmarked by the U.S. Postal Service or proof of delivery from another delivery service such as UPS or Federal Express on or before the deadline for comments. If you submit your comments by hand-delivery, you are required to check in at the receptionist desk on the 21st floor.

Copies of the petitions and comments will be available during normal business hours at the address listed above.

FOR FURTHER INFORMATION CONTACT: Ria Moore Benedict, Deputy Director, Office of Standards, Regulations, and Variances at 202-693-9443 (Voice), benedict.ria@dol.gov (e-mail), or 202-693-9441 (Telefax), or you can contact Barbara Barron at 202-693-9447 (Voice), barron.barbara@dol.gov (e-mail), or 202-693-9441 (Telefax). [These are not toll-free numbers].

SUPPLEMENTARY INFORMATION:

I. Background

Section 101(c) of the Federal Mine Safety and Health Act of 1977 (Mine Act) allows the mine operator or representative of miners to file a petition to modify the application of any mandatory safety standard to a coal or other mine if the Secretary determines that an alternative method of achieving the result of such standard exists which will at all times guarantee no less than the same measure of protection afforded the miners of such mine by such standard, or that the application of such standard to such mine will result in a diminution of safety to the miners in such mine. In addition, the regulations at 30 CFR 44.10 and 44.11 establish the requirements and procedures for filing petitions for modifications.

II. Petitions for Modification

Docket Number: M-2006-067-C.

Petitioner: West Ridge Resources, Inc., P.O. Box 1077, Price, Utah 84501.

Mine: West Ridge Mine, (MSHA I.D. No. 42-02233), located in Carbon County, Utah.

Regulation Affected: 30 CFR 75.350 (Air courses and belt haulage entries).

Modification Request: The petitioner has filed a petition for modification to request that Section V. (B)(5) of the Proposed Decision and Order (PDO) for previously granted petition, docket number M-1999-026-C, be amended to insert the following sub-paragraphs:

1. In addition to the requirements of (B)(5), and subject to the terms set forth in paragraph 2 of this subpart, diesel-powered equipment classified as “heavy-duty” under 30 CFR 75.1908(a) must include a means, maintained in operating condition, to maintain the surface temperature of the exhaust system of diesel equipment below 302° Fahrenheit.

2. In the absence of a safe and reasonable means to comply with the requirement set forth in Paragraph 1 of this subpart, the following requirements shall apply.

(i) All hydraulic hoses, fuel lines, or other devices used to convey combustible fluids must be separated from the hot engine exhaust-system surfaces by piping rerouting, barriers or other means acceptable to MSHA. Such hoses, lines, or other devices used to convey combustible fluids that by design cannot be separated as required may be insulated using Kevlar or equivalent insulation product.

(ii) Engine exhaust system must be designed to minimize contact with combustible materials. Where safe and reasonable, exhaust pipes outside of the engine compartment must be of double-wall construction. Joints in the exhaust systems must consist of flanged connections utilizing gaskets and/or solid welded construction.

(iii) In addition to the requirements of 30 CFR 75.1909, 4-braid hoses must be used where a hose failure could result in combustible fluids contacting parts of the exhaust systems. Hoses should be covered with a Kevlar covering such as Protect, NHS-125, MSHA IC-171/1, or an equivalent covering acceptable to MSHA.

(iv) Diesel equipment must be equipped with both an automatic and manual fire-suppression system meeting the requirements of 30 CFR 75.1911 and capable of being activated from inside and outside the machine operator's cab. The manual activator located outside the cab must be on the side of the machine opposite the operator's cab. The fire-suppression system must be installed by a reputable fire suppression vendor with an enhanced fire-hazard analysis designed to address a higher level of fire protection for machines that are operated in two-entry mining systems. Each diesel-powered machine must be equipped with two hand-held fire extinguishers. Diagrams specific to each diesel family must be developed and retained by the mine operator to document how each enhanced fire-suppression system must be maintained. A record of each enhanced fire-suppression system diagram shall be maintained on the surface and be made available to all interested persons.

(v) Diesel equipment with diesel particulate matter disposal filters must be fitted with high exhaust gas temperature shutdown sensors to prevent the operation of the machine if the exhaust gas exceeds 650° Fahrenheit at the filter inlet. The shutdown sensors must be located as near the filter housing (filter inlet) as practical as determined by MSHA.

(vi) The visual inspection of diesel equipment required by 30 CFR 75.1914 must include an examination of the protective devices installed to control exhaust-system surface temperatures, hoses, fuel lines, and all other materials designed to prevent combustible fluids from contacting hot engine exhaust-system surfaces.

(vii) All underground miners working in the two-entry areas of the mine must be trained in the terms and conditions listed in this modification and the fire hazards involved with equipment working in these areas.

The petitioner asserts that this amendment to the petition for modification is filed to prevent a diminution of safety and the proposed alternative method would provide at least the same measure of protection as the existing standard.

Docket Number: M-2006-068-C.

Petitioner: Consol Pennsylvania Coal Company, 1800 Washington Road, Pittsburgh, Pennsylvania 15241.

Mine: Bailey Mine—1 South, (MSHA I.D. No. 36-07236), located in Greene County, Pennsylvania.

Regulation Affected: 30 CFR 75.364(b)(2) (Weekly examination).

Modification Request: Due to deteriorating roof conditions, the petitioner proposes to establish evaluation check points 1 and 2 to evaluate and confirm the proper ventilation between 1 South 4 Wall and 29 Wall, and check points 3 and 4 to evaluate the intake air course between 1 South and 31 Wall, and 90 Wall. The petitioner states that intake air enters the mine at the two (2) 1 South Shafts in the area between points 2 and 3. The petitioner further states that the air quality and quantity at each check point will be measured weekly by a certified person who will enter the date, time and initials to indicate that an examination was conducted at each location, record the results of the examinations in a book provided for such purposes, and certify by signature that the examination was conducted. The record book will be kept on the surface for a period of six months and made available for inspection by interested persons. The petitioner asserts that the proposed alternative method would provide at least the same measure of protection as the existing standard and that use of the check points to measure air and gas will provide an accurate picture of the conditions in the air course without unduly exposing persons to safety hazards.

Docket Number: M-2006-069-C.

Petitioner: Consol Pennslyvania Coal Company, 1800 Washington Road, Pittsburgh, Pennsylvania 15241.

Mine: Bailey Mine—81 Longwall, (MSHA I.D. No. 36-07230), located in Greene County, Pennsylvania.

Regulation Affected: 30 CFR 75.364(b)(2).

Modification Request: Due to deteriorating roof conditions in the intake air course located in the 81 longwall set up entries, the petitioner proposes to establish evaluation check points 1 and 2 to evaluate and confirm the adequate ventilation over the fall. The petitioner states that the air quality and quantity at each check point will be measured weekly by a certified person who will enter the date, time and initials to indicate that an examination was conducted at each location. The petitioner further states that results of the examinations will be recorded in a book that will be certified by signature that the examination was conducted, and kept on the surface available for inspection by interested persons. The petitioner asserts that the proposed alternative method would provide at least the same measure of protection as the existing standard, and use of the check points to measure air and gas will provide an accurate picture of the conditions in the air course without exposing persons to safety hazards.

Docket Number: M-2006-070-C.

Petitioner: Excel Coal Company, RD 2 Box 665, Shamokin, Pennsylvania 17872.

Mine: 3 S. Slope Mine, (MSHA I.D. No. 36-09309), located in Northumberland County, Pennsylvania.

Regulation Affected: 30 CFR 75.335 (Construction of seals).

Modification Request: The petitioner proposes to: (1) Construct seals from wooden materials of moderate size and weight; (2) design the seals to withstand a static horizontal pressure in the range of 10 psi; and (3) install a sampling tube in the monkey (higher elevation) seal. The petitioner states that the pitch of anthracite veins and concrete blocks are difficult to use and will expose miners to safety hazards during transport. The petitioner cites low-level explosibility of anthracite coal dust and minimal potential for either an accumulation of methane in previously mined pitching veins or an ignition source in the gob area, as justification for the proposed 10 psi design. The petitioner asserts that the proposed alternative method would provide at least the same measure of protection as the existing standard.

Docket Number: M-2006-071-C.

Petitioner: Excel Coal Company, RD 2 Box 665, Shamokin, Pennsylvania 17872.

Mine: 3 S. Slope Mine, (MSHA I.D. No. 36-09309), located in Northumberland County, Pennsylvania.

Regulation Affected: 30 CFR 75.1202 and 75.1202-1(a) (Temporary notations, revisions, and supplements).

Modification Request: The petitioner requests a modification of the existing standard to permit the required interval of survey to be established annually from the initial survey in lieu every 6 months. The petitioner proposes to update the mine map by hand notations on a daily basis, conduct subsequent surveys prior to commencing retreat mining, and when either a drilling program under 30 CFR 75.388 or plan for mining into accessible areas under 30 CFR 75.389 is required. The petitioner states that: (1) Low production and slow rate of advance in anthracite mining make surveying on 6 month intervals impractical and, in most cases, annual development is frequently limited to less than 500 feet of gangway advance with associated up-pitch development; (2) The majority of small anthracite mines are using non-mechanized, hand-loading mining methods; (3) Development above the active gangway is designed to mine into the level above at designated intervals thereby maintaining sufficient control between both surveyed gangways; and (4) The available engineering/surveyor resources are very limited in anthracite coal fields which makes surveying on an annual basis difficult to achieve with 4 individual contractors currently available. The petitioner asserts that the proposed alternative method would provide at least the same measure of protection as the existing standard.

Docket Number: M-2006-072-C.

Petitioner: Excel Coal Company, RD 2 Box 665, Shamokin, Pennsylvania 17872.

Mine: 3 S. Slope Mine (MSHA I.D. No. 36-09309) located in Northumberland County, Pennsylvania.

Regulation Affected: 30 CFR 49.6(a)(1) & (5) ) (Mine Rescue teams).

Modification Request: The petitioner requests a modification of the existing standard to permit the reduction of twelve self-contained oxygen breathing apparatus, to eight self-contained breathing apparatus and the reduction of twelve permissible cap lamps and charging rack to eight permissible cap lamps and charging rack. The petitioner asserts that this petition request will in no way alter, change, or reduce the ability, effectiveness, or safety of the underground mine personnel.

Docket Number: M-2006-073-C.

Petitioner: T.J.S. Mining, Inc., 2340 Smith Road, Shelocta, Pennsylvania 15774.

Mines: Rossmoyne No. 1 Mine, (MSHA I.D. No. 36-09075), located in Indiana County, Pennsylvania; T.J.S. No. 5 Mine, (MSHA I.D. No. 36-09159), located in Armstrong County, Pennsylvania; and T.J.S. No. 6 Mine, (MSHA I.D. No. 36-09464), located in Armstrong County, Pennsylvania.

Regulation Affected: 30 CFR 75.1100-2(e)(2)) (Quantity and location of firefighting equipment) .

Modification Request: The petitioner proposes to supply two (2) fire extinguishers or one fire extinguisher of twice the required capacity at all temporary electrical installations in lieu of using 240 pounds of rock dust. The petitioner asserts that the proposed alternative method would provide at least the same measure of protection as the existing standard.

Docket Number: M-2006-074-C.

Petitioner: T.J.S. Mining, Inc.,/Penn View Mining, Inc., 2340 Smith Road, Selocta, Pennsylvania.

Mines: Rossmoyne No. 1 Mine, (MSHA I.D. No. 36-09075), located in Indiana County, Pennsylvania; Darmac No. 2 Mine, (MSHA I.D. No. 36-08135), located in Armstrong County, Pennsylvania; T.J.S. No. 5 Mine, (MSHA I.D. No. 36-09159), located in Armstrong County, Pennsylvania; and Penn View Mine, (MSHA I.D. No. 36-08741), located in Indiana County, Pennsylvania.

Regulation Affected: 30 CFR 75.312(c) (Main mine fan examinations and records).

Modification Request: The petitioner requests a modification of the existing standard to permit an alternative method for conducting the 31 day test of the fan signal. The petitioner states that to conduct the 31 day test procedure requires stopping and restarting the fan which can cause failure to the fan's electrical circuit, and further undue burden if the fan cannot be restarted within the required fifteen (15) minutes. If the fan is stopped, this would require a special examination to be conducted which requires crawling approximately 2 miles because some of the mines are thin seam mines (34″−36″ height). The petitioner asserts that the proposed alternative method would provide at least the same measure of protection as the existing standard.

Docket Number: M-2006-075-C.

Petitioner: San Juan Coal Company, P.O. Box 561, Waterflow, New Mexico 87421.

Mine: San Juan South Mine, (MSHA I.D. No. 29-02170), located in San Juan County, New Mexico.

Regulation Affected: 30 CFR 75.1700 (Oil and gas wells).

Modification Request: The petitioner has filed a petition for modification to request that Section 2 of the Proposed Decision and Order for its previously granted petition, docket number M-2000-109-C, be amended. The petitioner's previously granted petition permits mining through oil and gas wells. The petitioner requests that Section 2 of the Proposed Decision and Order of its previously granted petition be changed to further clarify the specific procedures required when approaching and cutting through the well, and to also bring the petition more in line with other granted petitions for safety standard 30 CFR 75.1700. The petitioner asserts that this amendment to the previously granted petition will provide at least the same measure of protection as the existing modification requirements.

Docket Number: M-2006-010-M.

Petitioner: Swenson Granite Company, LLC, 369 North State Street, Concord, New Hampshire 03301.

Mine: Swenson Gray Quarry, (MSHA I.D. No. 27-00083), located in Merrimack County, New Hampshire.

Regulation Affected: 30 CFR 56.19009 (Position indicator).

Modification Request: The petitioner proposes to use state-of-the-art Pelligrini and Timberland stiff-leg derricks as man-hoists into the dimensional stone quarry, and use the company's hand signaling system daily to direct the derrick as an alternative to using the Position Indicator. The petitioner states that Swenson Granites' Gray Quarry is an open dimensional granite quarry that operates fixed stiff-leg derricks to lift stone and equipment, and that an accurate and reliable indicator of the skip or cage position will be provided in the shaft. The petitioner further states that the derricks operate and reach all areas of the quarry floor and walls and offer full view of the hook and loads, and the operation relies 100 percent on constant view of the hook and load, or the operation is stopped and conditions are improved to 100 percent visibility. The petitioner asserts that the proposed alternative method would provide at least the same measure of protection as the existing standard.

Docket Number: M-2006-011-M.

Petitioner: Swenson Granite Company, LLC, 369 North State Street, Concord, New Hampshire 03301.

Mine: Swenson Gray Quarry, (MSHA I.D. No. 27-00083), located in Merrimack County, New Hampshire.

Regulation Affected: 30 CFR 56.19090 (Dual signaling systems).

Modification Request: The petitioner proposes to use state-of-the-art Pelligrini and Timberland stiff-leg derricks as man-hoists into their dimensional stone quarry, and use the company's hand signaling system daily to direct the derrick as an alternative to using the speaking tube. The petitioner states that Swenson Granites' Gray Quarry is an open dimensional granite quarry that operates fixed stiff-leg derricks to lift stone and equipment. The petitioner proposes to continue using man hoisting with equipment that has been replaced by two newer stiff-leg derricks which they have done for many years. The petitioner asserts that the proposed alternative method would provide at least the same measure of protection as the existing standard.

Dated at Arlington, Virginia this 22nd day of November 2006.
Patricia W. Silvey,
Director, Office of Standards, Regulations, and Variances.

[FR Doc. E6-20571 Filed 12-4-06; 8:45 am]

BILLING CODE 4510-43-P